DEPARTMENT OF COMMERCE

National Oceanic and Atmospheric Administration

RIN 0648-XM53

New England Fishery Management Council; Public Meeting

AGENCY: National Marine Fisheries Service (NMFS), National Oceanic and Atmospheric Administration (NOAA), Commerce.

ACTION: Notice of a public meeting.

SUMMARY: The New England Fishery Management Council's (Council) Herring Oversight Committee will meet to consider actions affecting New England fisheries in the exclusive economic zone (EEZ).

DATES: The meeting will be held on Wednesday, January 28, 2009, at 9:30 a.m.

ADDRESSES: The meeting will be held at the Sheraton Providence Airport Hotel, 1850 Post Road, Warwick, RI 02886; telephone: (401) 824-0649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Continue development of management measures and alternatives to be considered further in Amendment 4 to the Atlantic Herring Fishery Management Plan (FMP); develop Committee recommendations for Council consideration in February 2009; identify issues that may require further guidance from the Council;

2. Continue to discuss stakeholder proposals/ideas regarding a catch monitoring program for the Atlantic herring fishery; develop management alternatives related to catch monitoring, including but not limited to: specific monitoring and reporting requirements for herring vessels and processors, observer coverage and at-sea monitoring, shoreside/dockside monitoring and sampling, vessel monitoring system (VMS) requirements, as well as other measures that were suggested for consideration during the scoping process and/or in the stakeholder proposals;

3. Review and discuss available analysis of river herring bycatch in the Atlantic herring fishery; develop recommendations regarding management measures to be considered in Amendment 4;

4. Review information related to at-sea monitoring and reporting, which may include available observer data, analyses related to a sampling design for an observer program, and applications for electronic monitoring and reporting; develop recommendations as appropriate;

5. Review and discuss management measures to improve at-sea monitoring;

6. Address any other issues and develop recommendations related to Amendment 4 to the Herring FMP, possibly including annual catch limits (ACLs) and accountability measures (AMs), and criteria for midwater trawl access to groundfish closed areas.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: December 31, 2008.
Tracey L. Thompson,
Acting Director, Office of Sustainable Fisheries, National Marine Fisheries Service.

[FR Doc. E8-31439 Filed 1-5-09; 8:45 am]

BILLING CODE 3510-22-S